DEPARTMENT OF HEALTH AND HUMAN SERVICES

National Institutes of Health

Center for Scientific Review; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications ,the disclosure of which would constitute a clearly unwarranted invasion of personal privacy.

Name of Committee: Center for Scientific Review Special Emphasis Panel Member conflict: Topics in Bacterial Pathogenesis.

Date:July 15-16, 2014.

Time:8:00 a.m. to 6:00 p.m.

Agenda:To review and evaluate grant applications.

Place:National Institutes of Health, 6701 Rockledge Drive, Bethesda, MD 20892, (Virtual Meeting).

Contact Person:Guangyong Ji, Ph.D., Scientific Review Officer, Center for Scientific Review, National Institutes of Health, 6701 Rockledge Drive, Room 3211, MSC 7808, Bethesda, MD 20892, 301-435-1146, jig@csr.nih.gov.

Name of Committee: Center for Scientific Review Special Emphasis Panel Small Business: Molecular Analysis Technology.

Date: July 23, 2014.

Time:11:00 a.m. to 6:00 p.m.

Agenda:To review and evaluate grant applications.

Place: National Institutes of Health, 6701 Rockledge Drive, Bethesda, MD 20892, (Telephone Conference Call).

Contact Person: Zhang-Zhi Hu, MD, Scientific Review Officer, Center for Scientific Review, National Institutes of Health, 6701 Rockledge Drive, Room 6186, MSC 7804, Bethesda, MD 20892, (301) 594-2414, huzhuang@csr.nih.gov.

Name of Committee: Center for Scientific Review Special Emphasis Panel PA13-313: Academic Research Enhancement Award (R15) Program: Endocrinology, Metabolism, Nutrition and Reproduction.

Date:July 23, 2014.

Time:1:00 p.m. to 6:00 p.m.

Agenda:To review and evaluate grant applications.

Place:National Institutes of Health, 6701 Rockledge Drive, Bethesda, MD 20892, (Telephone Conference Call).

Contact Person:Reed A Graves, Ph.D., Scientific Review Officer, Center for Scientific Review, National Institutes of Health, 6701 Rockledge Drive, Room 6166, MSC 7892, Bethesda, MD 20892, (301) 402-6297, gravesr@csr.nih.gov.

Name of Committee: Center for Scientific Review Special Emphasis Panel Program Project: BTRC Center Review.

Date:July 23-25, 2014.

Time:6:00 p.m. to 3:00 p.m.

Agenda:To review and evaluate grant applications.

Place:Bethesda Marriott Suites, 6711 Democracy Boulevard, Bethesda, MD 20817.

Contact Person:Craig Giroux, Ph.D., Scientific Review Officer, BST IRG, Center for Scientific Review, National Institutes of Health, 6701 Rockledge Drive, Room 5150, Bethesda, MD 20892, 301-435-2204, girouxcn@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 18, 2014.
David Clary,
Program Analyst, Office of Federal Advisory Committee Policy.

[FR Doc. 2014-14645 Filed 6-23-14; 8:45 am]

BILLING CODE 4140-01-P